DEPARTMENT OF THE TREASURY

Office of Foreign Assets Control

Sanctions Actions Pursuant to Executive Orders 13224

AGENCY: Office of Foreign Assets Control, Treasury.

ACTION: Notice.

SUMMARY: The Treasury Department's Office of Foreign Assets Control (OFAC) is publishing the names of two individuals whose property and interests in property are blocked pursuant to Executive Order 13224 of September 23, 2001, “Blocking Property and Prohibiting Transactions With Persons Who Commit, Threaten To Commit, or Support Terrorism.”

DATES: OFAC's actions described in this notice are effective on August 5, 2015.

FOR FURTHER INFORMATION CONTACT: Associate Director for Global Targeting, tel.: 202/622-2420, Assistant Director for Sanctions Compliance & Evaluation, tel.: 202/622-2490, Assistant Director for Licensing, tel.: 202/622-2480, Office of Foreign Assets Control, or Chief Counsel (Foreign Assets Control), tel.: 202/622-2410, Office of the General Counsel, Department of the Treasury (not toll free numbers).

SUPPLEMENTARY INFORMATION:

Electronic and Facsimile Availability

The SDN List and additional information concerning OFAC sanctions programs are available from OFAC's Web site (www.treasury.gov/ofac). Certain general information pertaining to OFAC's sanctions programs is also available via facsimile through a 24-hour fax-on-demand service, tel.: 202/622-0077.

Notice of OFAC Actions

On August 5, 2015, OFAC blocked the property and interests in property of the following two individuals pursuant to E.O. 13224, “Blocking Property and Prohibiting Transactions With Persons Who Commit, Threaten To Commit, or Support Terrorism”:

1. AL-KAWARI, 'Abd al-Latif Bin 'Abdallah Salih Muhammad (a.k.a. AL-KAWARI, 'Abd-al-Latif 'Abdallah; a.k.a. AL-KAWARI, 'Abd-al-Latif 'Abdallah Salih; a.k.a. AL-KAWWARI, 'Abd-al-Latif 'Abdallah; a.k.a. AL-KUWARI, 'Abd-al-Latif 'Abdallah Salih; a.k.a. “Abu Ali al-Kawari”), al-Laqtah, Qatar; DOB 28 Sep 1973; nationality Qatar; Passport 01020802 (Qatar); alt. Passport 00754833 (Qatar) issued 20 May 2007; alt. Passport 00490327 (Qatar) issued 28 Jul 2001; National ID No. 27363400684 (Qatar) (individual) [SDGT]. (Linked to: ISLAMIC ARMY)

2. AL-KA'BI, Sa'd bin Sa'd Muhammad Shariyan (a.k.a. AL-KA'BI, Sa'd al-Sharyan; a.k.a. AL-KA'BI, Sa'd Bin Sa'd Muhammad Shiryan; a.k.a. AL-KA'BI, Sa'd Sa'd Muhammad Shiryan; a.k.a. “Abu Haza'”; a.k.a. “Abu Hazza'”; a.k.a. “Abu Sa'd”; a.k.a. “Abu Suad”; a.k.a. “'Umar al-Afghani”); DOB 15 Feb 1972; nationality Qatar; Passport 00966737 (Qatar) (individual) [SDGT]. (Linked to: AL NUSRAH FRONT)

Dated: August 5, 2015.
John E. Smith,
Acting Director, Office of Foreign Assets Control.

[FR Doc. 2015-19704 Filed 8-10-15; 8:45 am]

BILLING CODE 4810-AL-P